FEDERAL COMMUNICATIONS COMMISSION

Sunshine Act Meeting; Open Commission Meeting; Wednesday, December 20, 2006

December 13, 2006.

The Federal Communications Commission will hold an Open Meeting on the subjects listed below on Wednesday, December 20, 2006, which is scheduled to commence at in Room TW-C305, at 445 12th Street, SW., Washington, DC.

Item No. | Bureau | Subject
1 | Media | Title: Statistical Report on Average Rates for Basic Service, Cable Programming Service, and Equipment (MM Docket No. 92-266).
|  | Summary: The Commission will consider a Report on cable industry prices.
2 | Media | Title: Implementation of Section 621(a)(1) of the Cable Communications Policy Act of 1984 as amended by the Cable Television Consumer Protection and Competition Act of 1992 (MB Docket No. 05-311).
|  | Summary: The Commission will consider a Report and Order and Further Notice of Proposed Rulemaking regarding Section 621(a)(1)'s directive that local franchising authorities not unreasonably refuse to award competitive franchises.
3 | Public Safety and Homeland Security | Title: Implementing a Nationwide, Broadband, Interoperable Public Safety Network in the 700 MHz Band; Development of Operational, Technical and Spectrum Requirements for Meeting Federal, State, and Local Public Safety Communications Requirements Through the Year 2010 (WT Docket No. 96-86).
|  | Summary: The Commission will consider a Ninth Notice of Proposed Rulemaking concerning public safety communications in the 700 MHz band.
4 | Consumer & Governmental Affairs | Title: Telecommunications Relay Services and Speech-to-Speech Services for Individuals with Hearing and Speech Disabilities; Internet-based Captioned Telephone Service (CG Docket No. 03-123).
|  | Summary: The Commission will consider a Declaratory Ruling regarding whether Internet Protocol (IP) captioned telephone service is a form of telecommunications relay service (TRS) compensable from the Interstate TRS Fund.

The meeting site is fully accessible to people using wheelchairs or other mobility aids. Meeting agendas and handouts will be provided in accessible formats; sign language interpreters, open captioning, and assistive listening devices will be provided on site. The meeting will be webcast with open captioning. Request other reasonable accommodations for people with disabilities as early as possible; please allow at least 5 days advance notice. Include a description of the accommodation you will need including as much detail as you can. In addition, include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at www.fcc.gov/realaudio.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 06-9771 Filed 12-14-06; 2:23 pm]

BILLING CODE 6712-01-P